DEPARTMENT OF TRANSPORTATION

National Highway Traffic Safety Administration

[Docket No. NHTSA-2021-0032]

Agency Information Collection Activities; Submission to the Office of Management and Budget for Review and Approval; Consolidated Vehicles' Owner's Manual Requirements for Motor Vehicles and Motor Vehicle Equipment

AGENCY: National Highway Traffic Safety Administration (NHTSA), Department of Transportation (DOT).

ACTION: Notice and request for comments on a reinstatement with modification of a previously approved information collection.

SUMMARY: In compliance with the Paperwork Reduction Act of 1995 (PRA), this notice announces that the Information Collection Request (ICR) summarized below will be submitted to the Office of Management and Budget (OMB) for review and approval. The ICR describes the nature of the information collection and its expected burden. This document describes a collection of information for which NHTSA intends to seek OMB approval on Vehicle Owner's Manual Requirements for Motor Vehicles and Motor Vehicle Equipment.

DATES: Comments must be submitted on or before November 14, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact James Myers, NHTSA, 1200 New Jersey Avenue SE, West Building, Room W43-320, NRM-100, Washington, DC 20590. Mr. Myers' telephone number is 202-493-0031. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on February 22, 2022.

Title: Consolidated Vehicle Owner's Manual Requirements for Motor Vehicles and Motor Vehicle Equipment.

OMB Control Number: 2127-0541.

Form Number: N/A.

Type of Request: Request for reinstatement with modification of a previously approved collection of information.

Type of Review Requested: Regular.

Length of Approval Requested: Three years from date of approval.

Summary of the Collection of Information: The National Traffic and Motor Vehicle Act, authorizes the Secretary of Transportation (NHTSA by delegation), at 49 U.S.C. 30111, to issue Federal Motor Vehicle Safety Standards (FMVSS) that set performance standards for motor vehicles and items of motor vehicle equipment. Further, the Secretary (NHTSA by delegation) is authorized, at 49 U.S.C. 30117, to require manufacturers to provide information to first purchasers of motor vehicles or items of motor vehicle equipment related to performance and safety in printed materials that are attached to or accompany the motor vehicle or item of motor vehicle equipment. NHTSA has exercised this authority to require manufacturers to provide certain specified safety information to be readily available to consumers and purchasers of motor vehicles and items of motor vehicle equipment. This information is most often provided in vehicle owners' manuals and the requirements are found in 49 CFR parts 563, 571, and 575. This information collection request only covers requirements or requests to provide information that is not provided verbatim in the regulation or standard. The information requirements or requests are included in: Part 563, “Event data recorders;” FMVSS No. 108, “Lamps, reflective devices, and associated equipment;” FMVSS No. 110, “Tire selection and rims;” FMVSS No. 138, “Tire Pressure Monitoring Systems;” FMVSS No. 202a, “Head restraints;” FMVSS No. 205, “Glazing materials;” FMVSS No. 208, “Occupant crash protection;” FMVSS No. 210, “Seat belt assembly anchorages;” FMVSS No. 213, “Child restraint systems;” FMVSS No. 225, “Child restraint anchorage systems;” FMVSS No. 226, “Ejection mitigation;” FMVSS No. 303, “Fuel System Integrity of Compressed Natural Gas Vehicles;” section 575.103, “Truck-camper loading;” section 575.104, “Uniform tire quality grading standards;” and section 575.105, “Vehicle rollover.”

Part 563—Event data recorders. Section 563.11 requires manufacturers of vehicles equipped with event data recorders (EDRs) to provide a prescribed statement (provided verbatim) in the owner's manual,¹ which is not an information collection. Section 563.11 also states that the owner's manual may include additional information about the form, function, and capabilities of the EDR, in supplement to the required statement. This voluntary disclosure of information is an information collection for which NHTSA is seeking approval. There is a slight burden for respondents to include the voluntary additional information in their owner's manuals. The vehicle manufacturers which provide this additional information in the owner's manual incur minimal burden. We conservatively estimate that half of the 406 vehicle models for light duty vehicles will have owner's manuals that contain this supplemental information and that the burden for updating and reviewing this information will be 1 hour per model line. This would result in 203 annual burden hours (203 vehicle model lines × 1 hour of time × 1 manual per model).

¹ 49 CFR 563.11(a).

It is estimated that the word content in the owner's manual required by Part 563 would be 100 text words. Hence, the cost burden to vehicle manufacturers is estimated to be $30,566.25 (17,100,939 total vehicles × 50% of vehicles including added language in the owner's manuals × 100 text words × 1.1 production factor × 0.25 printing factor × $0.00013 per word). Cost burdens for this regulation were not included in the previous information collection request.

FMVSS No. 108, “Lamps, reflective devices, and associated equipment.” This standard requires that certain lamps and reflective devices with certain performance levels be installed on motor vehicles to assure that the roadway is properly illuminated, that vehicles can be readily seen, and the signals can be transmitted to other drivers sharing the road during day, night, and inclement weather. In addition to establishing performance requirements for those lamps and reflective devices, FMVSS No. 108 also contains provisions requiring manufacturers to provide instructions or information on the lighting device. FMVSS No. 108, S10.18.8.2 requires manufacturers to provide instructions for proper aiming of a vehicle's Vehicle Headlamp Aiming Device (VHAD) headlamps. FMVSS No. 108, S9.4.1.1 requires manufacturers to provide information regarding how to operate semiautomatic beam switching devices.

NHTSA estimates 50% of vehicle models will offer adaptive driving beam headlighting systems on at least one trim level that will include a VHAD. Further, NHTSA estimates manufacturers will require 4 hours per each new vehicle model and 1 hour for carry-over vehicle models to gather the necessary VHAD aiming instructions for the owner's manual. FMVSS No. 108 permits each manufacturer a choice in placing headlamp aiming instruction in the owner's manual or on a label affixed to the vehicle. We estimate about half of the VHAD aiming applications would be on labels attached to the VHAD, with the remainder (50%) using information in the owner's manual to convey the necessary information. The annual burden hours required by FMVSS No. 108`s VHAD section in the owner's manual is 383 hours ((438 models × 0.5 use VHAD × 0.25 new models × 4 hours/model) + (438 models × 0.5 use VHAD × 0.75 non-new models × 1 hour/model)).

We estimate that approximately 80% of new vehicle models include a semiautomatic beam switching device (SAB) on at least one trim level for the U.S. market. For new model vehicles the time to collect, prepare, and review the required information is estimated to be 4 hours per manual. For carry-over vehicles, we estimate 1 hour to review the required information for continued accuracy. The annual burden hours required by FMVSS No. 108's semiautomatic beam switching device section in the owner's manual is 613 hours ((438 models × 0.8 offer SABs × 0.25 new models × 4 hours/model) + (438 models × 0.8 offer SABs × 0.75 non-new models × 1 hour/model)).

The annual printing annual cost burden to the respondents to include the information required by FMVSS No. 108's VHAD section in the owner's manual is $38,208 (17,100,000 vehicles × 0.5 use VHAD × 0.5 provide info in manual × 250 words of text × 1.1 production factor × 0.25 printing factor × $0.00013 per word). The annual printing cost burden to the respondents to include the information required by FMVSS No. 108's semiautomatic beam switching device section in the owner's manual is $244,530 (17,100,000 vehicles × 0.8 use SABs × 500 words of text × 1.1 production factor × 0.25 printing factor × $0.00013 per word).

FMVSS No. 110, “Tire selection and rims.” This standard specifies requirements for tire selection to prevent tire overloading. The vehicle's normal load and maximum load on the tire shall not be greater than applicable specified limits. The standard requires a permanently affixed vehicle placard specifying vehicle capacity weight, designated seating capacity, manufacturer-recommended cold tire inflation pressure, and manufacturer's recommended tire size. The standard further specifies rim construction requirements, load limits of non-pneumatic spare tires, and labeling requirements for non-pneumatic spare tires, including a required placard. Owner's manual information is required for non-pneumatic spare tires.

Currently, manufacturers do not equip current passenger vehicles, trucks, buses, trailers, or motorcycles with non-pneumatic spare tires. If vehicles were equipped with non-pneumatic spare tires, the number of annual burden hours imposed on manufacturers who choose to equip their vehicles with this equipment would be determined from the number of model lines produced annually (of which an estimated 25% are new and 75% are on-new, a repeat of previous years' model lines) multiplied by the portion of vehicle models equipped with non-pneumatic spare tires multiplied by the estimated number of hours required to assemble the required information (estimated to be 4 hours of review for new vehicles and 1 hour to review the information for non-new vehicles). The product of these factors would provide the number of hours required by manufacturers to produce necessary information to place into an owner's manual “master” for printing. The printing cost burden for these owner's manuals would be the number of vehicles produced annually multiplied by the portion of vehicles equipped with non-pneumatic spare tires, multiplied by certain printing factors (an estimated 500 text words required per owner's manual, a 1.1 multiplier to account for aftermarket manuals, a 0.25 printing factor, and a $0.00013 cost per word). Because manufacturers do not equip current passenger vehicles, trucks, buses, trailers, or motorcycles with non-pneumatic spare tires, NHTSA estimates the hour burden as 0 hours, and the printing cost at $0.

FMVSS No. 138, “Tire pressure monitoring systems.” This standard specifies requirements for a tire pressure monitoring system to warn the driver of an under-inflated tire condition. Its purpose is to reduce the likelihood of a vehicle crash resulting from tire failure due to operation in an under-inflated condition. The standard requires the owner's manual to include specific information on the low-pressure warning telltale and the malfunction indicator telltale.

The information required by FMVSS No. 138 to be included in the owner's manual is provided verbatim and may be taken from the Federal regulation in its entirety. FMVSS No. 138, also states that the owner's manual may include additional information about the low-pressure telltale and the malfunction indicator telltale. NHTSA estimates the burden to be 1 hour for the respondents to format their owner's manuals to include the text and additional information. There is an average of 438 model lines each year that include tire pressure monitoring information in the owner's manual. Therefore, NHTSA estimates the total annual burden hours for § 571.138 to be 438 hours (438 model lines × 1 manual per model × 1 hour).

It is estimated that the information required by FMVSS No. 138 in the owner's manual is equivalent to 400 words of text. This would result in $244,530 in cost burden to the respondents (17,100,000 vehicles × 400 words of text × 1.1 production factor × 0.25 printing factor × $0.00013 per word).

FMVSS No. 202a, “Head restraints.” This standard specifies requirements for head restraints. The standard, which seeks to reduce whiplash injuries in rear collisions, currently requires head restraints for front outboard designated seating positions in passenger cars and in light multipurpose passenger vehicles, trucks and buses with a gross vehicle weight rating of 4,536 kg or less and specifies requirements for optionally provided rear outboard seat head restraints in the same vehicles. The standard requires that vehicle manufacturers include information in owner's manuals for vehicles manufactured on or after September 1, 2008. The owner's manual must clearly identify which seats are equipped with head restraints. If the head restraints are removable, the owner's manual must provide instructions on how to remove the head restraint by a deliberate action distinct from any act necessary for adjustment, and how to reinstall the head restraints. The owner's manual must warn that all head restraints must be reinstalled to properly protect vehicle occupants. Finally, the owner's manual must describe, in an easily understandable format, the adjustment of the head restraints and/or seat back to achieve appropriate head restraint position relative to the occupant's head.

It is estimated that 438 model lines need to be reviewed annually, but only a fraction (25 percent) need major revision each year. It is further estimated that it would take 5 hours to complete the major revisions. The remaining fraction of model lines (75 percent) only require reverification of existing information. The total annual burden hours are estimated to be 876 hours (438 model lines × 0.25 needing revision × 5 hours plus 438 model lines × 0.75 needing revision × 1 hour).

The word count required to disclose the required head restraint information in the owner's manual is estimated to be 1,200 words. The annual cost burden to the respondents to include the information required by FMVSS No. 202a in the owner's manual is $733,590 (17,100,000 vehicles × 1,200 words of text × 1.1 production factor × 0.25 printing factor × $0.00013 per word).

FMVSS No. 205, “Glazing materials.” This standard specifies requirements for all glazing material used in windshields, windows, and interior partitions of motor vehicles. Its purpose is to reduce injuries resulting from impact to glazing surfaces, to ensure a necessary degree of transparency in motor vehicle windows for driver visibility, and to minimize the possibility of occupants being thrown through the vehicle windows in collisions. More detailed information regarding the care and maintenance of plastic glazing items, such as a glass-plastic windshield, is required to be placed in the vehicle owner's manual.

It is estimated that the burden to provide information in the owner's manual for detailed care and maintenance is minimal because manufacturers already provide this type of information in the vehicle cleaning and maintenance section of the owner's manual. NHTSA estimates a burden for each manual of 1 hour because manufacturers would need to verify that detailed care and maintenance information has been included in their cleaning and maintenance section of the owner's manual. The annual estimated burden from § 571.205 is 176.0 hours (176 model lines × 1 manual per model × 1 hour).

The word count required in the owner's manual is estimated to be 210 words. Only buses and low speed vehicles currently use plastic type glazing, so NHTSA estimates there are 17,400 new vehicles each year that include glazing information in the owner's manual. The annual cost burden to the respondents to include the information required by FMVSS No. 205 is $130.15 (17,400 vehicles × 210 words of text × 1.1 production factor × 0.25 printing factor × $0.00013 per word).

FMVSS No. 208, “Occupant crash protection.” This standard specifies requirements for both active and passive occupant crash protection systems for passenger cars, multipurpose passenger vehicles, trucks, and small buses. Certain safety features, such as air bags, or the care and maintenance of air bag systems, are required to be explained to the owner by means of the owner's manual. For example, the owner's manual must describe the vehicle's air bag system and provide precautionary information about the proper positioning of the occupants, including children. The owner's manual must also warn that no objects should be placed over or near the air bag covers. There is also required information about the operation of seat belt assemblies and other information that could total up to about 20 pages in the owner's manual. This material would also need to be kept current with the latest technical information on an annual basis.

A conservative estimated burden to produce the required text and information is 16 hours (or 2 days). It is also estimated that a fraction (25 percent) of the model lines would require updates annually. The remaining fraction of model lines (75 percent) only require reverification (1-hour burden) of existing information. This would result in 2,750 annual burden hours (579 vehicle model lines × 0.25 percent that need updating × 16 hours of time plus 579 model lines × 0.75 needing revision × 1 hour).

It is estimated that the word content in the owner's manual required by FMVSS No. 208 would be 5,400 text words. Hence, the cost burden to vehicle manufacturers is estimated to be $3,397,680 (17,600,000 total vehicles × 5,400 text words × 1.1 production factor × 0.25 printing factor × $0.00013 per word).

FMVSS No. 210, “Seat belt assembly anchorages.” This standard specifies requirements for seat belt assembly anchorages to ensure effective occupant restraint and to reduce the likelihood of failure in a crash. FMVSS No. 210 requires that manufacturers place the following information in the vehicle owner's manual: (a) an explanation that child restraints are designed to be secured by means of the vehicle's seat belts, and (b) a statement alerting vehicle owners that children are always safer in the rear seat.

It is estimated that it would take a vehicle manufacturer no more than 1 hour per vehicle model line to assemble all of the FMVSS No. 210 information for inclusion in the owner's manual. This would result in 438 annual burden hours (438 vehicle model lines × 1 manual per model × 1 hour).

It is estimated that the word content in the owner's manual required by FMVSS No. 210 would be 400 text words. Hence, the cost burden to vehicle manufacturers is estimated to be $244,530 (17,100,000 total vehicles × 400 text words × 1.1 production factor × 0.25 printing factor × $0.00013 per word).

FMVSS No. 213, “Child restraint systems.” This standard specifies requirements for child restraint systems and requires that manufacturers provide consumers with detailed information relating to child safety in air bag-equipped vehicles. The vehicle owner's manual must include information about the operation and do's and don'ts of built-in child seats. NHTSA estimates that there are no more than 20 vehicle models that are equipped with built-in child restraints. However, as stated in FMVSS No. 213, the information must be made available on strategically placed labels within the vehicles, in addition to the vehicle's owner's manual. Thus, it is assumed that the burden hours would be minimal since the information is already available from the information required to produce the labels. This would result in 20 annual burden hours (20 vehicle model lines × 1 manual per model × 1 hour).

It is estimated that the recurring information required for child safety in the owner's manual would be 500 text words. NHTSA estimates that 5% of vehicles may be in lines that offer built in child restraints. Hence, the cost burden to vehicle manufacturers is estimated to be $15,730 (17,600,000 total vehicles × 5% × 500 text words × 1.1 production factor × 0.25 printing factor × $0.00013 per word).

FMVSS No. 225; “Child restraint anchorage systems.” This standard establishes requirements for child restraint anchorage systems to ensure their proper location and strength for the effective securing of child restraints, to reduce the likelihood of the anchorage systems' failure, and to increase the likelihood that child restraints are properly secured and thus more fully achieve their potential effectiveness in motor vehicles. The vehicle owner's manual must provide written instructions, in English, for using the tether anchorages and the child restraint anchorage system in the vehicle. Instructions must at a minimum indicate which seating positions in the vehicle are equipped with tether anchorages and child restraint anchorage systems, explain the meaning of markings provided to locate the lower anchorages, and include instructions that provide a step-by-step procedure (including diagrams) for properly attaching a child restraint system's tether strap to the tether anchorages.

NHTSA estimates that it takes a vehicle manufacturer no more than 5 hours to compile the required material and that only a fraction (25 percent) would need major revisions each year. The remaining fraction of model lines (75 percent) only require reverification (1-hour burden) of existing information. This would result in 876 annual burden hours ((438 vehicle model lines × 1 manual per model × 0.25 (percent requiring major revisions) × 5 hours of time) + (438 model lines × 1 manual per model × 0.75 (percent requiring reverification) × 1 hour)).

NHTSA estimates that the word content in the owner's manual required by FMVSS No. 225 would be 1,500 text words. Hence, the cost burden to vehicle manufacturers is estimated to be $943,800 (17,600,000 total vehicles × 1,500 text words × 1.1 production factor × 0.25 printing factor × $0.00013 per word).

FMVSS No. 226, “Ejection mitigation.” This standard establishes vehicle requirements intended to reduce the partial and complete ejection of vehicle occupants through side windows in crashes, particularly rollover crashes. The standard applies to passenger cars, and to multipurpose passenger vehicles, trucks, and buses with a gross vehicle weight rating of 4,536 kg (10,000 pounds) or less. Written information must be provided that describes any ejection mitigation countermeasure that deploys in the event of a rollover and a discussion of the readiness indicator with a list of the elements of the system being monitored by the indicator, a discussion of the purpose and location of the telltale, and instructions to the consumer on the steps to take if the telltale is illuminated.

It is estimated that it would take a vehicle manufacturer no more than 8 hours to compile the required material and it is estimated that a fraction (25 percent) would need major revisions each year. The remaining fraction of model lines (75 percent) only require reverification (1-hour burden) of existing information. This would result in 1,204.5 annual burden hours (438 vehicle model lines × 1 manual per model × 0.25 (percent that need updating) × 8 hours of time plus 438 model lines × 1 manual per model × 0.75 (percent needing revision) × 1 hour).

It is estimated that the word content in the owner's manual required by FMVSS No. 226 would be 3,000 text words. Hence, the cost burden to vehicle manufacturers is estimated to be $1,833,975 (17,100,000 total vehicles × 3,000 text words × 1.1 production factor × 0.25 printing factor × $0.00013 per word).

FMVSS No. 303, “Fuel System Integrity of Compressed Natural Gas Vehicles.” This standard specifies requirements for the integrity of motor vehicle fuel systems using compressed natural gas (CNG), including the CNG fuel systems of bi-fuel, dedicated, and dual fuel CNG vehicles. This regulation requires manufacturers to permanently label CNG vehicles, near the vehicle refueling connection, with service pressure information and the statement “See instructions on fuel container for inspection and service life.” Manufacturers of CNG vehicles shall also provide a first purchaser this information in either an owner's manual or a one-page document. The service pressure information required for the owner's manuals under FMVSS No. 303 is developed by manufacturers as part of their routine engineering development for their vehicles. Therefore, there is a slight burden of 1 hour for respondents to include this information in their owner's manuals. This would result in 18 annual burden hours (18 vehicle model lines × 1 manual per model × 1 hour of time).

It is estimated that no more than 50 words are required in the owner's manual to comply with the requirements in FMVSS No. 303. There are conservatively 20,000 CNG vehicles produced annually. Hence, the cost burden to CNG vehicle manufacturers is estimated to be $35.75 (20,000 total units × 50 text words × 1.1 production factor × 0.25 printing factor × $0.00013 per word). Cost burdens for this regulation were not included in the previous information collection request.

Section 575.103, “Truck-camper loading.” This regulation requires manufacturers of slide-in campers to affix to each camper a label that contains information relating to identification and proper loading of the camper and to provide more detailed loading information in the owner's manual. This regulation also requires manufacturers of trucks that would accommodate slide-in campers to specify the cargo weight ratings and the longitudinal limits within which the center of gravity for the cargo weight rating should be located. The information required for the owner's manuals under section 575.103 is developed by manufacturers as part of their routine engineering development for their vehicles. The figures to include in truck and slide-in camper owner's manuals are provided in the regulation. Therefore, there is a slight 1-hour burden for respondents to include this information in their owner's manuals. This would result in 35 annual burden hours (35 vehicle model lines × 1 manual per model × 1 hour of time).

It is estimated that 480 words are minimally required in the owner's manual to comply with § 575.103. There are approximately 2,300,000 pickup trucks and 11,000 truck camper units produced annually. These total to an annual production of 2,311,000 units. Hence, the cost burden to vehicle manufacturers is estimated to be $39,656.76 (2,311,000 total units × 480 text words × 1.1 production factor × 0.25 printing factor × $0.00013 per word).

Section 575.104, “Uniform tire quality grading standards.” This regulation requires manufacturers of motor vehicles to inform the drivers of the type and quality of the tires with which their vehicles are equipped. A statement, which manufacturers shall include in the owner's manual, is provided in the regulation in its entirety or equivalent form. Hence there is a slight 1-hour burden on the respondents for inclusion of this information into their owner's manuals. This would result in 579 annual burden hours (579 vehicle model lines × 1 manual per model × 1 hour of time).

It is estimated that 390 words are minimally required in the owner's manual to comply with § 575.104. There are approximately 13,857,300 vehicles covered by this regulation. Hence, the cost burden to vehicle manufacturers is estimated to be $193,205.41 (13,857,300 total vehicles × 390 text words × 1.1 production factor × 0.25 printing factor × $0.00013 per word). Cost burdens for this regulation were not included in the previous information collection request.

Section 575.105, “Vehicle rollover.” This regulation requires manufacturers of utility vehicles ² to alert the drivers of those vehicles that they have a higher possibility of rollover than other vehicle types and to advise them of steps that can be taken to reduce the possibility of rollover and/or to reduce the likelihood of injury in a rollover. A statement, which manufacturers shall include in the owner's manual, is provided in the regulation in its entirety or equivalent form. Hence there is a slight 1-hour burden on the respondents for inclusion of this information into their owner's manuals. This would result in 18 annual burden hours (18 vehicle model lines × 1 manual per model × 1 hour of time).

² 49 CFR 575.105 states Utility vehicles means multipurpose passenger vehicles (other than those which are passenger car derivatives) which have a wheelbase of 110 inches or less and special features for occasional off-road operation.

It is estimated that 117 words are minimally required in the owner's manual to comply with § 575.105. There are approximately 2,700,000 utility vehicles with 4-wheel drive and a wheelbase of 110 inches or less. Therefore, the cost burden to vehicle manufacturers is estimated to be $11,293.43 (2,700,000 total vehicles × 117 text words × 1.1 production factor × 0.25 printing factor × $0.00013 per word). Cost burdens for this regulation were not included in the previous information collection request.

Description of the Need for the Information and Proposed Use of the Information:

The purpose of requiring certain information to be provided in manuals is to ensure owners and operators are provided with readily accessible important information about critical components of their vehicles, such as the performance of their vehicle or instructions for proper operation. The Federal program for reducing highway fatalities, injuries and crashes is likely to be adversely affected if the information is not collected, since consumers would not be made readily aware of certain important safety provisions that apply to critical components of their vehicles and would not have a readily accessible source of information when circumstances require such information.

Earlier 60-Day Notice:

A Federal Register Notice, 87 FR 9787, with a 60-day comment period soliciting comments on the following information collection was published on February 22, 2022. No comments were received for that notice.

Affected Public: Vehicle manufacturers.

Estimated Number of Respondents: 52.

Frequency: On Occasion.

Number of Responses: 52.

Estimated Total Annual Burden Hours: 8,628.

Estimated Total Combined Annual Burden Costs: $8,406,632.

The table below summarizes the total hour burden, associated labor costs, and printing cost estimates.

Table 1—Estimated Hour Burden and Associated Labor Costs
Part/section | Brief title | Estimated total annual burden hours | Estimated total annual labor costs at $50.44/hour
563 | Event Data Recorders | 203 | $10,239
571.108 | Lighting-VHAD | 383 | 19,319
571.108 | Lighting-SABs | 613 | 30,920
571.110 | Tire Selection and Rims | 0 | 0
571.138 | Tire Pressure Monitoring | 438 | 22,093
571.202a | Head Restraints | 876 | 44,185
571.205 | Glazing | 176 | 8,877
571.208 | Crash Protection | 2,750 | 138,710
571.210 | Seat Belt Anchors | 438 | 22,093
571.213 | Child Restraints | 20 | 1,009
571.225 | Child Restraint Anchorages | 876 | 44,185
571.226 | Ejection Mitigation | 1,205 | 60,755
571.303 | CNG Fuel Systems | 18 | 908
575.103 | Truck-Camper Loading | 35 | 1,765
575.104 | Tire Quality | 579 | 29,205
575.105 | Utility Vehicles | 18 | 908
Totals |  | 8,628 | 435,171

Table 2—Estimated Printing Costs
Part/section | Brief title | Estimated total costs to respondents
563 | Event Data Recorders | $30,566
571.108 | Lighting-VHAD | 38,208
571.108 | Lighting-SABs | 244,530
571.110 | Tire Selection and Rims | 0
571.138 | Tire Pressure Monitoring Systems | 244,530
571.202a | Head Restraints | 733,590
571.205 | Glazing | 131
571.208 | Occupant Crash Protection | 3,397,680
571.210 | Seat Belt Assembly Anchors | 244,530
571.213 | Child Restraints Systems | 15,730
571.225 | Child Restraint Anchorage Systems | 943,800
571.226 | Ejection Mitigation | 1,833,975
571.303 | Fuel System Integrity of Compressed Natural Gas Vehicles | 36
575.103 | Truck-Camper Loading | 39,657
575.104 | Uniform Tire Quality Grading Standards | 193,205
575.105 | Vehicle Rollover | 11,293
Total Printing Costs |  | 7,971,461

Public Comments Invited:

You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Raymond R. Posten,
Associate Administrator for Rulemaking.

[FR Doc. 2022-22298 Filed 10-13-22; 8:45 am]

BILLING CODE 4910-59-P